DEPARTMENT OF HEALTH AND HUMAN SERVICES

National Institutes of Health

National Institute of Dental & Craniofacial Research; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Dental and Craniofacial Research Special Emphasis Panel; Review of NIDCR Small Business Applications.

Date: April 9, 2025.

Time: 9:00 a.m. to 6:00 p.m.

Agenda: To review and evaluate grant applications.

Meeting Format: Virtual Meeting.

Address: National Institute of Dental Craniofacial Research, 31 Center Drive, Bethesda, MD 20892.

Contact Person: Yun Mei, MD, Scientific Review Officer, Scientific Review Branch, National Institute of Dental and Craniofacial Research, National Institutes of Health, 6701 Democracy Boulevard, Bethesda, MD 20892, (301) 827-4639, email: yun.mei@nih.gov.

Name of Committee: National Institute of Dental and Craniofacial Research Special Emphasis Panel; Collaborative Science to Achieve Disruptive Innovations in Dental, Oral and Craniofacial (DOC) Research (RM1 Clinical Trial Not Allowed).

Date: April 10-11, 2025.

Time: 10:00 a.m. to 5:00 p.m.

Agenda: To review and evaluate grant applications.

Meeting Format: Virtual Meeting.

Address: National Institute of Dental Craniofacial Research, 31 Center Drive, Bethesda, MD 20892.

Contact Person: Christopher Campbell, MD, Ph.D., Scientific Review Officer, Scientific Review Branch, Division of Extramural Activities, National Institute of Dental and Craniofacial Research, National Institutes of Health, Bethesda, MD 20892, email:christopher.campbell@nih.gov.

Name of Committee: National Institute of Dental and Craniofacial Research Special Emphasis Panel; Review of NIDCR Fellowship, DSR Member-Conflict, and Conference Grant Applications.

Date: April 15-16, 2025.

Time: 10:00 a.m. to 12:00 p.m.

Agenda: To review and evaluate grant applications.

Meeting Format: Virtual Meeting.

Address: National Institute of Dental Craniofacial Research, 31 Center Drive, Bethesda, MD 20892.

Contact Person: Jingshan Chen, Ph.D., Scientific Review Officer, Scientific Review Branch, Division of Extramural Activities, National Institute of Dental and Craniofacial Research, National Institutes of Health, Bethesda, MD 20892, (301) 451-2405, email: jingshan.chen@nih.gov.

Name of Committee: National Institute of Dental and Craniofacial Research Special Emphasis Panel; NIDCR CROMS Contract Review.

Date: April 29, 2025.

Time: 9:00 a.m. to 5:00 p.m.

Agenda: To review and evaluate contract proposals.

Meeting Format: Virtual Meeting.

Address: National Institute of Dental Craniofacial Research, 31 Center Drive, Bethesda, MD 20892.

Contact Person: Christopher Campbell, MD, Ph.D., Scientific Review Officer, Scientific Review Branch, Division of Extramural Activities, National Institute of Dental and Craniofacial Research, National Institutes of Health, Bethesda, MD 20892, email: christopher.campbell@nih.gov.

Name of Committee: National Institute of Dental and Craniofacial Research Special Emphasis Panel; TMD Collaborative for Improving Patient-Centered Translational Research (TMD IMPACT).

Date: June 12, 2025.

Time: 9:00 a.m. to 5:00 p.m.

Agenda: To review and evaluate grant applications.

Meeting Format: Virtual Meeting.

Address: National Institute of Dental Craniofacial Research, 31 Center Drive, Bethesda, MD 20892.

Contact Person: Christopher Campbell, MD, Ph.D., Scientific Review Officer, Scientific Review Branch, Division of Extramural Activities, National Institute of Dental and Craniofacial Research National Institutes of Health Bethesda, MD 20892 email: christopher.campbell@nih.gov.

(Catalogue of Federal Domestic Assistance Program Nos. 93.121, Oral Diseases and Disorders Research, National Institutes of Health, HHS)

Dated: March 11, 2025.
Bruce A. George,
Program Analyst, Office of Federal Advisory Committee Policy.

[FR Doc. 2025-04206 Filed 3-14-25; 8:45 am]

BILLING CODE 4140-01-P